DEPARTMENT OF AGRICULTURE

Farm Service Agency

Notice of Request for Extension of a Currently Approved Information Collection

AGENCY: Farm Service Agency, USDA.

ACTION: Notice and request for comments.

SUMMARY: In accordance with the Paperwork Reduction Act of 1995, this notice announces the intention of the Farm Service Agency (FSA) to request an extension of a currently approved information collection in support of the FSA Aerial Photography Program. The FSA Aerial Photography Field Office (APFO) uses the information from this form to collect the customer and photography information needed to produce and ship the various products ordered.

DATES: Comments on this notice must be received on or before October 22, 2001 to be assured consideration.

FOR FURTHER INFORMATION CONTACT: Contact Linda McDonald, USDA, FSA, APFO, 2222 West 2300 South, Salt Lake City, Utah 84119-2020, telephone (801) 975-3500 Extension 235.

SUPPLEMENTARY INFORMATION: Title: Request for Aerial Photography.

OMB Control Number: 0560-0176.

Expiration Date of Approval: March 23, 2002.

Type of Request: Extension of a currently approved information collection.

Abstract: The information collected under Office of Management and Budget (OMB) Control Number 0560-0176 as identified above, is needed to enable the Department of Agriculture to effectively administrate the Aerial Photography Program.

APFO has the authority to coordinate aerial photography and remote sensing programs and the aerial photography flying contract programs.

The film secured by FSA is public domain and reproductions are available at cost to any customer with a need. All receipts from the sale of aerial photography products and services are retained by FSA.

The FSA-441, Request for Aerial Photography, is the form FSA supplies to its customers when placing an order for aerial photography products and services.

Estimate of Respondent Burden: Public reporting burden for this information collection is estimated to average 3.3 hours per response.

Respondents: Farms, Ranchers and other USDA Customers who wish to purchase photography products and services.

Estimated Number of Respondents: 12,000.

Estimated Number of Responses per Respondents: 1.

Estimated Total Annual Burden Hours on Respondents: 8,000 hours.

Proposed topics for comment include but are not limited to: (a) Whether the proposed collection of information is necessary for the proper performance of the functions of the agency, including whether the information will have practical utility; (b) the accuracy of the agency's estimate of the burden of the proposed collection of information, including the validity of the methodology and assumptions used; (c) ways to enhance the quality, utility, and clarity of the information from those who are to respond, including the use of appropriate automated, electronic, mechanical, or other technological collection techniques or other forms of information technology. Comments should be sent to the Desk Officer for Agriculture, Office of Information and Regulatory Affairs, OMB, Washington, DC 20503, and to Linda McDonald, FSA, APFO, USDA, 2222 West 2300 South, Salt Lake City, Utah 84119-2020.

All responses to this notice will be summarized and included in the request for OMB approval. All comments will also become a matter of public record.

Signed at Washington, DC, on August 16, 2001.
James R. Little,
Acting Administrator, Farm Service Agency.

[FR Doc. 01-21312 Filed 8-22-01; 8:45 am]

BILLING CODE 3410-05-P